DEPARTMENT OF COMMERCE

Bureau of Industry and Security

15 CFR Part 744

[Docket No. 101102553-0553-01]

RIN 0694-AF01

Implementation of Additional Changes From the Annual Review of the Entity List

AGENCY: Bureau of Industry and Security, Commerce.

ACTION: Final rule.

SUMMARY: This rule amends the Export Administration Regulations (EAR) to implement additional changes to the Entity List (Supplement No. 4 to Part 744) on the basis of the annual review of the Entity List conducted by the End-User Review Committee (ERC). The changes from the annual review will be implemented in three rules. The first rule published on May 28, 2010 (75 FR 29884) implemented the results of the annual review for listed entities located in Canada, Egypt, Germany, Hong Kong, Israel, Kuwait, Lebanon, Malaysia, South Korea, Singapore, and the United Kingdom.

The second rule, published today, implements the results of the annual review for entities located in China and Russia. This rule removes five entities from the Entity List under Russia and makes twenty-one modifications to the Entity List (consisting of modifications to eighteen Chinese entries and three Russian entries currently on the Entity List) by adding additional addresses, aliases and/or clarifying the names for these twenty-one entities.

The third rule, which will likely be published in early 2011, will implement the remaining results of the annual review.

The Entity List provides notice to the public that certain exports, reexports, and transfers (in-country) to entities identified on the Entity List require a license from the Bureau of Industry and Security and that availability of license exceptions in such transactions is limited.

DATES: Effective Date: This rule is effective December 17, 2010. Although there is no formal comment period, public comments on this regulation are welcome on a continuing basis.

ADDRESSES: You may submit comments, identified by RIN 0694-AF01, by any of the following methods:

E-mail: publiccomments@bis.doc.gov. Include “RIN 0694-AF01” in the subject line of the message.

Fax: (202) 482-3355. Please alert the Regulatory Policy Division, by calling (202) 482-2440, if you are faxing comments.

Mail or Hand Delivery/Courier: Timothy Mooney, U.S. Department of Commerce, Bureau of Industry and Security, Regulatory Policy Division, 14th St. & Pennsylvania Avenue, NW., Room 2705, Washington, DC 20230, Attn: RIN 0694-AF01.

Send comments regarding the collection of information associated with this rule, including suggestions for reducing the burden, to Jasmeet K. Seehra, Office of Management and Budget (OMB), by e-mail to Jasmeet_K._Seehra@omb.eop.gov, or by fax to (202) 395-7285; and to the Regulatory Policy Division, Bureau of Industry and Security, Department of Commerce, 14th St. & Pennsylvania Avenue, NW., Room 2705, Washington, DC 20230. Comments on this collection of information should be submitted separately from comments on the final rule (i.e. RIN 0694-AF01)—all comments on the latter should be submitted by one of the three methods outlined above.

FOR FURTHER INFORMATION CONTACT: Karen Nies-Vogel, Chairman, End-User Review Committee, Office of the Assistant Secretary, Export Administration, Bureau of Industry and Security, Department of Commerce, Phone: (202) 482-5991, Fax: (202) 482-3911, E-mail: ERC@bis.doc.gov.

SUPPLEMENTARY INFORMATION:

Background

The Entity List provides notice to the public that certain exports, reexports, and transfers (in-country) to entities identified on the Entity List require a license from the Bureau of Industry and Security (BIS) and that the availability of license exceptions in such transactions is limited. Entities are placed on the Entity List on the basis of certain sections of part 744 (Control Policy: End-User and End-Use Based) of the EAR.

The End-User Review Committee (ERC), composed of representatives of the Departments of Commerce (Chair), State, Defense, Energy and, where appropriate, the Treasury, makes all decisions to make additions to, removals from and other changes to the Entity List. The ERC makes all decisions to add an entry to the Entity List by majority vote and all decisions to remove or modify an entry by unanimous vote.

Annual Review of the Entity List

This rule amends the Export Administration Regulations (EAR) to implement changes to the Entity List (Supplement No. 4 to part 744) on the basis of the annual review of the Entity List conducted by the ERC, in accordance with the procedures outlined in Supplement No. 5 to part 744 (Procedures for End-User Review Committee Entity List Decisions).

The changes from the annual review of the Entity List that were approved by the ERC will be implemented in three rules. The first rule, published on May 28, 2010 (75 FR 29884), implemented the results of the annual review for listed entities located in Canada, Egypt, Germany, Hong Kong, Israel, Kuwait, Lebanon, Malaysia, South Korea, Singapore, and the United Kingdom.

The second rule, published today, implements the results of the annual review for entities located in China and Russia. The third rule that will likely be published in early 2011 will implement the remaining results of the annual review.

The first rule published on May 28 indicated the implementation of the annual review changes would be done in two rules, but a decision was made by the ERC to implement the approved annual review changes for these two countries in this second rule and then publish a third rule (if needed) to close out the implementation of the annual review, while allowing for the additional time necessary to review any additional changes for the remaining countries.

As the changes included in this final rule (i.e., the second annual review implementation rule) will assist exporters, reexporters and persons making transfers (in-country) to better identify these persons listed on the Entity List, delaying the implementation of these approved changes until the ERC completes its review for the persons listed under the remaining destinations is not in the public interest.

ERC Entity List Decisions

This rule removes five entities from the Entity List under Russia. This rule also makes twenty-one modifications to the Entity List (consisting of modifications to eighteen Chinese entries and three Russian entries currently on the Entity List): by adding additional addresses, aliases and/or clarifying the names for these twenty-one entities, as described below in greater detail under the Modifications to the Entity List section.

Removal from the Entity List

The five entities being removed from the Entity List are located in Russia: “Baltic State Technical University, 1/21, 1-ya Krasnoarmeiskaya Ul., 198005, St. Petersburg”, “Glavkosmos, 9 Krasnoproletarskaya St., 103030 Moscow”, “Medeleyev University of Chemical Technology of Russia (including at 9 Miusskaya Sq. Moscow 125047, Russia)”, “Moscow Aviation Institute (MAI) (including at 4 Volokolamskoye Shosse, Moscow 125871, Russia)”, and “Tula Instrument Design Bureau (all locations, including at Tula 300001, Russia) (§ 744.20 of the EAR)”. These entities are being removed from the Entity List in parallel with the removal of the sanctions imposed pursuant to Sections 4(b), 4(c) and 4(d) of Executive Order 12938.

Russia

(1) Baltic State Technical University, 1/21, 1-ya Krasnoarmeiskaya Ul., 198005, St. Petersburg;

(2) Glavkosmos, 9 Krasnoproletarskaya St., 103030 Moscow;

(3) Medeleyev University of Chemical Technology of Russia (including at 9 Miusskaya Sq. Moscow 125047, Russia);

(4) Moscow Aviation Institute (MAI) (including at 4 Volokolamskoye Shosse, Moscow 125871, Russia); and

(5) Tula Instrument Design Bureau (all locations, including at Tula 300001, Russia) (§ 744.20 of the EAR).

The removal of these five entities from the Entity List (from Russia, as described above) eliminates the existing license requirement in Supplement No. 4 to part 744 for exports, reexports and transfers (in-country) to these five entities. However, the removal of Baltic State Technical University, Glavkosmos, Medeleyev University of Chemical Technology of Russia, Moscow Aviation Institute (MAI), and Tula Instrument Design Bureau from the Entity List does not relieve persons of other obligations under part 744 of the EAR or under other parts of the EAR. Neither the removal of an entity from the Entity List nor the removal of Entity List-based license requirements relieves persons of their obligations under General Prohibition 5 in § 736.2(b)(5) of the EAR which provides that, “you may not, without a license, knowingly export or reexport any item subject to the EAR to an end-user or end-use that is prohibited by part 744 of the EAR.” Nor do these removals relieve persons of their obligation to apply for export, reexport or in-country transfer licenses required by other provisions of the EAR. BIS strongly urges the use of Supplement No. 3 to part 732 of the EAR, “BIS's `Know Your Customer' Guidance and Red Flags,” when persons are involved in transactions that are subject to the EAR.

Modifications to the Entity List

(1) This rule amends twenty-one entries (consisting of eighteen Chinese entries and three Russian entries) currently on the Entity List by adding additional addresses, aliases or clarifying the names for the entities listed, as follows:

Note: To assist the public in better identifying the changes made to each entry, an asterisk is placed next to the portions of the existing entries that are being revised or are new in this final rule.

China

(1) 13 Institute, China Academy of Launch Vehicle Technology (CALT), a.k.a., the following six aliases:

—*13th Institute China Aerospace Times Electronics Corp (CATEC);

—713 Institute of Beijing;

—Institute of Control Devices (BICD);

—*Beijing Institute of Aerospace Control Devices (BIACD);

—*Beijing Aerospace Control Instruments Institute; and

—*Design and Manufacture Center of Navigation and Control Device.

(2) 33 Institute, a.k.a., the following four aliases:

—*Beijing Automation Control Equipment Institute (BACEI);

—Beijing Institute of Automatic Control Equipment;

—*China Haiying Electromechanical Technology Academy; and

—*No. 33 Research Institute of the Third Academy of China Aerospace Science and Industry Corp (CASIC).

(3) 35 Institute, a.k.a., the following five aliases:

—*Beijing Hangxing Machine Building Corporation;

—Beijing Huahang Radio Measurements Research Institute;

—*China Haiying Electronic Mechanical Technical Research Academy;

—*Huahang Institute of Radio Measurement; and

—*No. 35 Research Institute of the Third Academy of China Aerospace Science and Industry Corp (CASIC).

(4) 54th Research Institute of China, a.k.a., the following three aliases:

—*CETC 54th Research Institute;

—Communication, Telemetry and Telecontrol Research Institute (CTI); and

—*Shijiazhuang Communication Observation and Control Technology Institute.

(5) *Baotou Guanghua Chemical Industrial Corporation (Parent Organization: China National Nuclear Group Corporation (CNNC)), a.k.a., the following five aliases:

—*202 Plant, Baotou Nuclear Energy Facility;

—*Baotou Guanghua Chemical Industrial Corporation;

—*Baotou Guanghua Chemical Industry Company;

—*Baotou Nuclear Fuel Element Plant; and

—*China Nuclear Baotou Guanghua Chemical Industry Company.

202 Factory Baotou, Inner Mongolia.

(6) *Beijing Aerospace Automatic Control Institute (BICD), a.k.a., the following four aliases:

—*12th Research Institute China Academy of Launch Vehicle Technology (CALT);

—*Beijing Institute of Space Automatic Control;

—*Beijing Spaceflight Autocontrol Research Institute; and

—*China Aerospace Science and Technology Corp First Academy 12th Research Institute.

51 Yong Ding Road, Beijing.

(7) *Beijing Institute of Structure and Environmental Engineering (BISE), a.k.a., the following two aliases:

—*702nd Research Institute, China Academy of Launch Vehicle Technology (CALT); and

—Beijing Institute of Strength and Environmental Engineering.

No. 30 Wanyuan Road, Beijing.

(8) Beijing Power Machinery Institute, a.k.a., the following three aliases:

—*31st Research Institute of China Aerospace Science and Industry Corp (CASIC) or China Haiying Electromechanical Technology Academy (a.k.a., China Haiying Science & Technology Corporation);

—*Beijing Power Generating Machinery Institute; and

—*Beijing Power Machinery Research Laboratory.

(9) Beijing University of Aeronautics and Astronautics (BUAA), a.k.a., the following alias:

—Beihang University.

*37 Xueyuan Rd, Haidian District, Beijing.

(10) Chinese Academy of Engineering Physics, a.k.a., the following eighteen aliases:

—Ninth Academy;

—Southwest Computing Center;

—Southwest Institute of Applied Electronics;

—Southwest Institute of Chemical Materials;

—Southwest Institute of Electronic Engineering;

—Southwest Institute of Environmental Testing;

—Southwest Institute of Explosives and Chemical Engineering;

—*Southwest Institute of Fluid Physics;

—Southwest Institute of General Designing and Assembly;

—Southwest Institute of Machining Technology;

—Southwest Institute of Materials;

—Southwest Institute of Nuclear Physics and Chemistry (a.k.a., China Academy of Engineering Physics (CAEP)'s 902 Institute);

—Southwest Institute of Research and Applications of Special Materials Factory;

—Southwest Institute of Structural Mechanics;

(—all of the preceding located in or near Mianyang, Sichuan Province)

—*Chengdu Electronic Science and Technology University (CUST);

—The High Power Laser Laboratory, Shanghai;

—The Institute of Applied Physics and Computational Mathematics, Beijing; and

—*University of Electronic Science and Technology of China, 901 Institute, (No. 4, 2nd Section, North Jianshe Road, Chengdu, 610054).

(11) First Department, Chinese Academy of Launch Vehicle Technology (CALT), a.k.a., the following three aliases:

—*1st General Design Department (a.k.a. Planning Department No 1) of the China Aerospace Science & Technology Corporation's First Academy (CALT);

—*Beijing Institute of Astronautic Systems Engineering; and

—*Beijing Institute of Space System Engineering.

(12) *Northwest Institute of Nuclear Technology in the Science Research (NINT), Xi'an, Shanxi.

(13) Northwestern Polytechnical University, a.k.a., the following three aliases:

—*Northwestern Polytechnic University;

—*Northwest Polytechnic University; and

—*Northwest Polytechnical University.

*127 Yonyi Xilu, Xi’an 71002 Shaanxi, China; and Youyi Xi Lu, Xi’an, Shaanxi, China.

(14) *Shanghai Academy of Spaceflight Technology (SAST), a.k.a., the following four aliases:

—*8th Research Academy of China Aerospace;

—*Shanghai Astronautics Industry Bureau;

—*Shanghai Bureau of Astronautics (SHBOA); and

—*Shanghai Bureau of Space.

Shanghai, Spaceflight Tower, 222 Cao Xi Road, Shanghai, 200233.

(15) Shanghai Institute of Space Power Sources, a.k.a., the following three aliases:

—*811th Research Institute, 8th Academy, China Aerospace Science and Technology Corp (CASC);

—*Shanghai Space Energy Research Institute; and

—*Shanghai Space Power Supply Research Institute.

388 Cang Wu Road, Shanghai.

(16) Southwest Research Institute of Electronics Technology, a.k.a., the following three aliases:

—*10th Research Institute of China Electronic Technology Group Corp (CETC);

—*CETC 10th Research Institute; and

—*Southwest Institute of Electronic Technology (SWIET).

Chengdu.

(17) Xi'an Research Institute of Navigation Technology, a.k.a., the following two aliases:

—*20th Research Institute of China Electronic Technology Group Corp (CETC); and

—*CETC 20th Research Institute.

(18) *Xiangdong Machinery Factory, within the China Aerospace Science and Industry Corp's (CASIC) Third Academy (a.k.a., the following two aliases: China Haiying Electromechanical Technology Academy and China Haiying Science & Technology Corporation), a.k.a., the following four aliases:

—*239 Factory (a.k.a., 35th Research Institute);

—*Beijing Xinghang Electromechanical Equipment Factory;

—*Beijing Hangxing Machinery Manufacturing Corporation; and

—*Hangxing Machine Building Company.

Russia

(1) All-Union Scientific Research Institute of Experimental Physics, a.k.a., the following twelve aliases:

—All Russian Research Institute of Experimental Physics;

—ARIEP;

—Arzamas-16;

—*Arzamas-75;

—*Federal State Unitary Enterprise Russian Federal Nuclear Center—All Russian Scientific Research Institute of Experimental Physics (FGUPRFNCs VNIIEF);

—Khariton Institute;

—Russian Federal Nuclear Center;

—VNIIEF; and

—*Vserossiyskiy Nauchno-Issledovatelskiy Institut Sperimentalnoy Fiziki.

37 Mira Ave. Sarov, Nizhny Novgorod Region, 607188 Russia.

—*Avarngard Electromechanical Plant;

—*Moscow Center 300; and

—*Sarov Nuclear Weapons Plant.

Kremlev (Sarov).

(2) All-Russian Scientific Research Institute of Technical Physics, a.k.a., the following ten aliases:

—All-Russian Research Institute of Technical Physics;

—*All-Union Scientific Research Institute of Instrument Building (VNIIP);

—ARITP;

—*Kasli;

—Russian Federal Nuclear Center;

—*Ural Nuclear Center, NII-1011;

—*VNIIEF;

—VNIITF; and

—*Vserosslyskly Nauchhnoissledovatelnyy Institut Tekhnicheskoy Fiziki.

*P.O. Box 245, 456770, Snezhinsk, Chelyabinsk Region Russia.

—*Federal State Unitary Enterprise Russian Federal Nuclear Center—Academician E.I. Zababkhin All-Russian Scientific Research Institute of Technical Physics (FGUPRFYaTs-VNIITF); and

—*Chelyabinsk 70/Snezhinsk.

(3) *Federal Atomic Power of Russia (Rusatom) (any entities, institutes, or centers associated with), a.k.a., the following three aliases:

—*Federal Atomic Agency (FAAE);

—*MINATOM; and

—*Ministry of Atomic Power and Industry (MAPI).

Located in either Snezhinsk or Kremlev (Sarov).

A BIS license is required for the export, reexport or transfer (in-country) of any item subject to the EAR to the persons described above, including any transaction in which this listed entity will act as purchaser, intermediate consignee, ultimate consignee, or end-user of the items. This listing of these entities also prohibits the use of license exceptions (see part 740 of the EAR) for exports, reexports and transfers (in-country) of items subject to the EAR involving this entity.

Savings Clause

Shipments of items removed from eligibility for a License Exception or export or reexport without a license (NLR) as a result of this regulatory action that were on dock for loading, on lighter, laden aboard an exporting or reexporting carrier, or en route aboard a carrier to a port of export or reexport, on December 17, 2010, pursuant to actual orders for export or reexport to a foreign destination, may proceed to that destination under the previous eligibility for a License Exception or export or reexport without a license (NLR) so long as they are exported or reexported before January 3, 2011. Any such items not actually exported or reexported before midnight, on January 3, 2011, require a license in accordance with this rule.

Although the Export Administration Act expired on August 20, 2001, the President, through Executive Order 13222 of August 17, 2001, 3 CFR, 2001 Comp., p. 783 (2002), as extended by the Notice of August 12, 2010, 75 FR 50681 (August 16, 2010), has continued the Export Administration Regulations in effect under the International Emergency Economic Powers Act.

Rulemaking Requirements

1. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 58 minutes to prepare and submit form BIS-748. Miscellaneous and recordkeeping activities account for 12 minutes per submission. Total burden hours associated with the Paperwork Reduction Act of Office and Management and Budget control number 0694-0088 are expected to increase slightly as a result of this rule.

3. This rule does not contain policies with Federalism implications as that term is defined in Executive Order 13132.

4. The provisions of the Administrative Procedure Act (5 U.S.C. 553) requiring notice of proposed rulemaking, the opportunity for public comment and a delay in effective date are inapplicable because this regulation involves a military or foreign affairs function of the United States. (See 5 U.S.C. 553(a)(1).) BIS implements this rule to prevent items from being exported, reexported or transferred (in-country) to persons listed on the Entity List by making clarifications to existing entries to inform exporters, reexporters and persons making transfers (in-country) of the intended scope of the license requirements for these listed persons. This action does this by adding additional addresses for listed persons, clarifying names for listed person and adding aliases for listed persons. If this rule were delayed to allow for notice and comment and a delay in effective date, there is a chance that certain exporters, reexporters and persons making transfers (in-country) to these listed persons may inadvertently export, reexport or transfer (in-country) to a listed person on the Entity List because the exporter, reexporter or person making the transfer (in-country) did not realize the listed person was subject to the Entity List-based license requirement because of perceived ambiguity regarding the listed person, such as the listed person was using an alias or an alternate address. There is also a chance an exporter, reexporter or person making a transfer (in-country) may turn away a potential export, reexport, or transfer (in-country) because the customer appeared to be within the scope of a listed person on the Entity List, but with a more clearly worded listing on the Entity List it would have been clear the person was not subject to an Entity List-based license requirement. For the five Russian entities that are removed with this rule, BIS is taking this action in the form of a final rule to conform the Entity List with a foreign policy decision that has already been made by Department of State to remove sanctions on these five entities. To ensure consistency across the U.S. Government in the implementation of this U.S. foreign policy it is important the publication of this rule is not delayed. In addition, if this rule were delayed this inconsistency in the implementation of U.S. foreign policy could have adverse consequences on U.S. foreign policy. For these reasons there is a public interest that these changes be implemented as a final action. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 12, 2010, 75 FR 50681 (August 16, 2010); Notice of November 4, 2010, 75 FR 68673 (November 8, 2010).

2. Supplement No. 4 to part 744 is amended:

(a) By removing under Russia, these five Russian entities: “Baltic State Technical University, 1/21, 1-ya Krasnoarmeiskaya Ul., 198005, St. Petersburg.”, “Glavkosmos, 9 Krasnoproletarskaya St., 103030 Moscow.”, “Medeleyev University of Chemical Technology of Russia (including at 9 Miusskaya Sq. Moscow 125047, Russia).”, “Moscow Aviation Institute (MAI) (including at 4 Volokolamskoye Shosse, Moscow 125871, Russia).”, “Tula Instrument Design Bureau (all locations, including at Tula 300001, Russia) (§ 744.20 of the EAR).”;

(b) By revising under China, People's Republic of, in alphabetical order, eighteen Chinese entities; and

(c) By revising under Russia, in alphabetical order, two Russian entities.

(d) By removing the Russian entity, the “Ministry for Atomic Power of Russia (any entities, institutes, or centers associated with) located in either Snezhinsk or Kremlev (Sarov).” and adding in its place the Russian entity “Federal Atomic Power of Russia (Rusatom) (any entities, institutes, or centers associated with), a.k.a. the following three aliases:—Federal Atomic Agency (FAAE);—MINATOM; and —Ministry of Atomic Power and Industry (MAPI). Located in either Snezhinsk or Kremlev (Sarov).”.

The revisions read as follows:

Supplement No. 4 to Part 744—Entity List
Country | Entity | License requirement | License review policy | Federal Register citation
* * * * * * *
CHINA, PEOPLE'S REPUBLIC OF | 13 Institute, China Academy of Launch Vehicle Technology (CALT), a.k.a., the following six aliases: —13th Institute China Aerospace Times Electronics Corp (CATEC); —713 Institute of Beijing; —Institute of Control Devices (BICD); | For all items subject to the EAR | See § 744.3(d) of this part | 66 FR 24265, 5/14/01. 75 FR [INSERT FR PAGE NUMBER], 12/17/10.
| —Beijing Institute of Aerospace Control Devices (BIACD);
| —Beijing Aerospace Control Instruments Institute; and
| —Design and Manufacture Center of Navigation and Control Device
| 33 Institute, a.k.a., the following four aliases: —Beijing Automation Control Equipment Institute (BACEI); —Beijing Institute of Automatic Control Equipment; —China Haiying Electromechanical Technology Academy; and —No. 33 Research Institute of the Third Academy of China Aerospace Science and Industry Corp (CASIC) | For all items subject to the EAR having a classification other than EAR99 or a classification where the third through fifth digits of the ECCN are “999”, e.g., XX999 | See § 744.3(d) of this part | 66 FR 24266, 5/14/01. 75 FR [INSERT FR PAGE NUMBER], 12/17/10.
| 35 Institute, a.k.a., the following five aliases: —Beijing Hangxing Machine Building Corporation; —Beijing Huahang Radio Measurements Research Institute; —China Haiying Electronic Mechanical Technical Research Academy; —Huahang Institute of Radio Measurement; and —No. 35 Research Institute of the Third Academy of China Aerospace Science and Industry Corp (CASIC) | For all items subject to the EAR having a classification other than EAR99 or a classification where the third through fifth digits of the ECCN are “999”, e.g., XX999 | See § 744.3(d) of this part | 66 FR 24266, 5/14/01. 75 FR [INSERT FR PAGE NUMBER], 12/17/10.
| 54th Research Institute of China, a.k.a., the following three aliases: —CETC 54th Research Institute; —Communication, Telemetry and Telecontrol Research Institute (CTI); and —Shijiazhuang Communication Observation and Control Technology Institute | For all items subject to the EAR having a classification other than EAR99 or a classification where the third through fifth digits of the ECCN are “999”, e.g., XX999 | See § 744.3(d) of this part | 66 FR 24266, 5/14/01. 75 FR [INSERT FR PAGE NUMBER], 12/17/10.
* * * * * * *
| Baotou Guanghua Chemical Industrial Corporation (Parent Organization: China National Nuclear Group Corporation (CNNC)), a.k.a., the following five aliases: —202 Plant, Baotou Nuclear Energy Facility; —Baotou Guanghua Chemical Industrial Corporation; —Baotou Guanghua Chemical Industry Company; | For all items subject to the EAR having a classification other than EAR99 | See § 744.2(d) of this part | 66 FR 24266, 5/14/01. 75 FR [INSERT FR PAGE NUMBER], 12/17/10.
| —Baotou Nuclear Fuel Element Plant; and
| —China Nuclear Baotou Guanghua Chemical Industry Company
| 202 Factory Baotou, Inner Mongolia
| Beijing Aerospace Automatic Control Institute (BICD), a.k.a., the following four aliases: —12th Research Institute China Academy of Launch Vehicle Technology (CALT); —Beijing Institute of Space Automatic Control; —Beijing Spaceflight Autocontrol Research Institute; and | For all items subject to the EAR having a classification other than EAR99 | See § 744.3 of this part | 64 FR 28909, 5/28/99. 75 FR [INSERT FR PAGE NUMBER], 12/17/10.
| —China Aerospace Science and Technology Corp First Academy 12th Research Institute
| 51 Yong Ding Road, Beijing
| Beijing Institute of Structure and Environmental Engineering (BISE), a.k.a., the following two aliases: —702nd Research Institute, China Academy of Launch Vehicle Technology (CALT); and —Beijing Institute of Strength and Environmental Engineering No. 30 Wanyuan Road, Beijing. | For all items subject to the EAR having a classification other than EAR99 | See § 744.3 of this part | 64 FR 28909, 5/28/99. 75 FR [INSERT FR PAGE NUMBER], 12/17/10.
| Beijing Power Machinery Institute, a.k.a., the following three aliases: —31st Research Institute of China Aerospace Science and Industry Corp (CASIC) or China Haiying Electromechanical Technology Academy (a.k.a., China Haiying Science & Technology Corporation); | For all items subject to the EAR | See § 744.3(d) of this part | 66 FR 24266, 5/14/01. 75 FR [INSERT FR PAGE NUMBER], 12/17/10.
| —Beijing Power Generating Machinery Institute; and
| —Beijing Power Machinery Research Laboratory
| Beijing University of Aeronautics and Astronautics (BUAA), a.k.a., the following alias: —Beihang University. 37 Xueyuan Road, Haidan District, Beijing. | For all items subject to the EAR | See § 744.3(d) of this part | 66 FR 24266, 5/14/01. 70 FR 54629, 9/16/05. 75 FR [INSERT FR PAGE NUMBER], 12/17/10.
* * * * * * *
| Chinese Academy of Engineering Physics, a.k.a., the following eighteen aliases: —Ninth Academy; —Southwest Computing Center; —Southwest Institute of Applied Electronics; —Southwest Institute of Chemical Materials; —Southwest Institute of Electronic Engineering; | For all items subject to the EAR | Case-by-case basis. | 62 FR 35334, 6/30/97. 66 FR 24266, 5/14/01. 75 FR [INSERT FR PAGE NUMBER], 12/17/10.
| —Southwest Institute of Environmental Testing;
| —Southwest Institute of Explosives and Chemical Engineering;
| —Southwest Institute of Fluid Physics;
| —Southwest Institute of General Designing and Assembly;
| —Southwest Institute of Machining Technology;
| —Southwest Institute of Materials;
| —Southwest Institute of Nuclear Physics and Chemistry (a.k.a., China Academy of Engineering Physics (CAEP)'s 902 Institute);
| —Southwest Institute of Research and Applications of Special Materials Factory;
| —Southwest Institute of Structural Mechanics;
| (all of preceding located in or near Mianyang, Sichuan Province);
| —Chengdu Electronic Science and Technology University (CUST);
| —The High Power Laser Laboratory, Shanghai;
| —The Institute of Applied Physics and Computational Mathematics, Beijing; and
| —University of Electronic Science and Technology of China, 901 Institute (No. 4, 2nd Section, North Jianshe Road, Chengdu, 610054)
* * * * * * *
| First Department, Chinese Academy of Launch Vehicle Technology (CALT), a.k.a., the following three aliases: —1st General Design Department (a.k.a., Planning Department No. 1) of the China Aerospace Science & Technology Corporation's First Academy (CALT); —Beijing Institute of Astronautic Systems Engineering; and | For all items subject to the EAR | See § 744.3(d) of this part | 66 FR 24266, 5/14/01. 75 FR [INSERT FR PAGE NUMBER], 12/17/10.
| —Beijing Institute of Space System Engineering
* * * * * * *
| Northwest Institute of Nuclear Technology in the Science Research (NINT), Xi'an, Shanxi | For all items subject to the EAR | See § 744.2 of this part | 64 FR 28909, 5/28/99. 75 FR [INSERT FR PAGE NUMBER], 12/17/10.
| Northwestern Polytechnical University, a.k.a., the following three aliases: —Northwestern Polytechnic University; —Northwest Polytechnic University; and —Northwest Polytechnical University. 127 Yonyi Xilu, Xi'an 71002 Shaanxi, China; and Youyi Xi Lu, Xi'an, Shaanxi, China | For all items subject to the EAR having a classification other than EAR99 or a classification where the third through fifth digits of the ECCN are “999”, e.g., XX999 | See § 744.3(d) of this part | 66 FR 24266, 5/14/01. 75 FR [INSERT FR PAGE NUMBER], 12/17/10.
| Shanghai Academy of Spaceflight Technology SAST), a.k.a., the following four aliases: —8th Research Academy of China Aerospace; —Shanghai Astronautics Industry Bureau; —Shanghai Bureau of Astronautics (SHBOA); and | For all items subject to the EAR having a classification other than EAR99 | See § 744.3 of this part | 64 FR 28909, 5/28/99. 75 FR [INSERT FR PAGE NUMBER], 12/17/10.
| —Shanghai Bureau of Space
| Shanghai, Spaceflight Tower, 222 Cao Xi Road, Shanghai, 200233
| Shanghai Institute of Space Power Sources, a.k.a., the following three aliases: —811th Research Institute, 8th Academy, China Aerospace Science and Technology Corp (CASC); —Shanghai Space Energy Research Institute; and —Shanghai Space Power Supply Research Institute 388 Cang Wu Road, Shanghai. | For all items subject to the EAR having a classification other than EAR99 | See § 744.3 of this part | 64 FR 28909, 5/28/99. 75 FR [INSERT FR PAGE NUMBER], 12/17/10.
| Southwest Research Institute of Electronics Technology, a.k.a., the following three aliases: —10th Research Institute of China Electronic Technology Group Corp (CETC); —CETC 10th Research Institute; and —Southwest Institute of Electronic Technology (SWIET) Chengdu. | For all items subject to the EAR having a classification other than EAR99 or a classification where the third through fifth digits of the ECCN are “999”, e.g., XX999 | See § 744.3(d) of this part | 66 FR 24267, 5/14/01. 75 FR [INSERT FR PAGE NUMBER], 12/17/10.
* * * * * * *
| Xi'an Research Institute of Navigation Technology, a.k.a., the following two aliases: —20th Research Institute of China Electronic Technology Group Corp (CETC); and —CETC 20th Research Institute. | For all items subject to the EAR having a classification other than EAR99 | See § 744.3(d) of this part | 66 FR 24267, 5/14/01. 75 FR [INSERT FR PAGE NUMBER], 12/17/10.
| Xiangdong Machinery Factory, within the China Aerospace Science and Industry Corp's (CASIC) Third Academy (a.k.a., the following two aliases: China Haiying Electromechanical Technology Academy and China Haiying Science & Technology Corporation), a.k.a., the following four aliases: | For all items subject to the EAR | See § 744.3(d) of this part | 66 FR 24267, 5/14/01. 75 FR [INSERT FR PAGE NUMBER], 12/17/10.
| —239 Factory (a.k.a., 35th Research Institute);
| —Beijing Xinghang Electromechanical Equipment Factory;
| —Beijing Hangxing Machinery Manufacturing Corporation; and
| —Hangxing Machine Building Company
* * * * * * *
RUSSIA | All-Russian Scientific Research Institute of Technical Physics, a.k.a., the following ten aliases: —All-Russian Research Institute of Technical Physics; —All-Union Scientific Research Institute of Instrument Building (VNIIP); —ARITP; —Kasli; | For all items subject to the EAR | Case-by-case basis. | 62 FR 35334, 6/30/97. 66 FR 24267, 5/14/01. 75 FR [INSERT FR PAGE NUMBER], 12/17/10.
| —Russian Federal Nuclear Center;
| —Ural Nuclear Center, NII-1011;
| —VNIITF; and
| —Vserosslyskly Nauchhnoissledovatelnyy Institut Tekhnicheskoy Fiziki.
| P.O. Box 245, 456770, Snezhinsk, Chelyabinsk Region Russia.
| —Federal State Unitary Enterprise Russian Federal Nuclear Center—Academician E.I. Zababkhin All-Russian Scientific Research Institute of Technical Physics (FGUPRFYaTs-VNIITF); and
| —Chelyabinsk 70/Snezhinsk
| All-Union Scientific Research Institute of Experimental Physics, a.k.a., the following twelve aliases: —All Russian Research Institute of Experimental Physics; —ARIEP; —Arzamas-16; —Arzamas-75; | For all items subject to the EAR | Case-by-case basis. | 62 FR 35334, 6/30/97. 66 FR 24267, 5/14/01. 75 FR [INSERT FR PAGE NUMBER], 12/17/10.
| —Federal State Unitary Enterprise Russian Federal Nuclear Center—All Russian Scientific Research Institute of Experimental Physics (FGUPRFNCs VNIIEF);
| —Khariton Institute;
| —Russian Federal Nuclear Center;
| —VNIIEF; and
| —Vserossiyskiy Nauchno-Issledovatelskiy Institut Sperimentalnoy Fiziki)
| 37 Mira Ave. Sarov, Nizhny Novgorod Region, 607188 Russia
| —Avarngard Electromechanical Plant;
| —Moscow Center 300; and
| —Sarov Nuclear Weapons Plant
| Kremlev (Sarov)
* * * * * * *
| Federal Atomic Power of Russia (Rusatom) (any entities, institutes, or centers associated with), a.k.a., the following three aliases: —Federal Atomic Agency (FAAE); —MINATOM; and —Ministry of Atomic Power and Industry (MAPI) Located in either Snezhinsk or Kremlev (Sarov) | For all items subject to the EAR | Case-by-case basis. | 62 FR 35334, 6/30/97. 66 FR 24267, 5/14/01. 75 FR [INSERT FR PAGE NUMBER], 12/17/10.
* * * * * * *

Dated: December 13, 2010.
Kevin J. Wolf,
Assistant Secretary for Export Administration.

[FR Doc. 2010-31653 Filed 12-16-10; 8:45 am]

BILLING CODE 3510-33-P